DEPARTMENT OF AGRICULTURE

Forest Service

Information Collection: Federal and Non-Federal Financial Assistance Instruments

AGENCY: Forest Service, USDA.

ACTION: Notice; request for comment.

SUMMARY: In accordance with the Paperwork Reduction Act of 1995, the Forest Service is seeking comments from all interested individuals and organizations on the revision of a currently approved information collection, OMB 0596-0217, Federal and Non-Federal Financial Assistance Instruments.

DATES: Comments must be received in writing on or before December 11, 2017 to be assured of consideration. Comments received after that date will be considered to the extent practicable.

ADDRESSES: Comments concerning this notice should be addressed to Jacqueline Henry, USDA Forest Service, Branch Chief for Grants and Agreements Policy, 1400 Independence Ave. SW., Mailstop 1138, Washington, DC 20250.

Comments also may be submitted via facsimile to 703-605-4776 or by email to: Jacquelinehenry@fs.fed.us.

The public may inspect comments received at USDA Forest Service, 1400 Independence Ave. SW., Washington, DC 20250, during normal business hours. Visitors are encouraged to call ahead to 703-605-4776 to facilitate entry to the building.

FOR FURTHER INFORMATION CONTACT: Jacqueline Henry, Branch Chief, Grants and Agreements Policy, telephone 703-605-4776.

Individuals who use telecommunication devices for the deaf (TDD) may call the Federal Relay Service (FRS) at 1-800-877-8339, 24 hours a day, 7 days a week, including holidays.

SUPPLEMENTARY INFORMATION:

Title: Federal and Non-Federal Financial Assistance Instruments.

OMB Number: 0596-0217.

Expiration Date of Approval: 02/28/2018.

Type of Request: Extension with revision of a currently approved information collection.

Abstract: In order to perform specific Forest Service activities, Congress created several authorities to assist the Agency in carrying out its mission. The Forest Service issues Federal Financial Assistance (FFA) awards, which are grants and cooperative agreements, as authorized by the Federal Grants and Cooperative Agreements Act (FGCAA). This collection includes the following forms:

(1) Federal Financial Assistance Standard Forms,

(2) Pre-certification forms,

(3) Award and administrative related correspondence, and

(4) A new questionnaire related to a recipient's accounting system and financial management capabilities.

In addition to FFA, Congress created specific authorizations for acts outside the scope of the FGCAA. Appropriations language was developed to convey authority for the Forest Service to enter into relationships that are outside the scope of the FGCAA. The Forest Service implements these authorizations using instruments such as collection agreements, FGCAA exempted agreements, memorandums of understanding, and other agreements which mutually benefit participating parties. These instruments fall outside the scope of the Federal Acquisition Regulations (FAR) and often require financial plans and statements of work. Forest Service employees collect information from cooperating parties from the pre-award to the closeout stage via telephone calls, emails, postal mail, and person-to-person meetings to create, develop, and administer these funded and non-funded agreements. The multiple means for respondents to communicate their responses include forms, non-forms, electronic documents, face-to-face, telephone, and Internet. The scope of information collected varies; however, it typically includes the project type, project scope, financial plan, statement of work, and cooperator's business information.

The Forest Service would not be able to create, develop, and administer these funded and non-funded agreements without the collected information. The Agency would also be unable to develop or monitor projects, make or receive payments, or identify financial and accounting errors.

Estimate of Annual Burden: 1 to 4 hours annually per person.

Type of Respondents: Non-profit and for profit institutions; institutions of higher education; State, local, and Native American tribal governments, individuals; foreign governments; and organizations.

Estimated Annual Number of Respondents: 15,000.

Estimated Annual Number of Responses per Respondent: 1 to 4.

Estimated Total Annual Burden on Respondents: 28,000 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission for Office of Management and Budget approval.

Dated: September 25, 2017.
Andria Weeks,
Acting Associate Deputy Chief, Business Operations.

[FR Doc. 2017-21680 Filed 10-6-17; 8:45 am]

BILLING CODE 3411-15-P